FEDERAL RESERVE SYSTEM

Formations of, Acquisitions by, and Mergers of Bank Holding Companies; Correction

This notice corrects a notice (FR Doc. 2014-26081) published on pages 65213 and 65214 of the issue for Monday, November 3, 2014.

Under the Federal Reserve Bank of Kansas City heading, the entry for Otten Holdings, LLC and FEO Investments, Inc., is revised to read as follows:

A. Federal Reserve Bank of Kansas City (Dennis Denney, Assistant Vice President) 1 Memorial Drive, Kansas City, Missouri 64198-0001:

1. Otten Holdings, LLC and FEO Investments, Inc., both in Norfolk, Nebraska; to acquire 100 percent of the voting shares of First National Agency, Inc., and thereby indirectly acquire First Nebraska Bank of Wayne, both in Wayne, Nebraska.

Comments on this application must be received by November 28, 2014.

Board of Governors of the Federal Reserve System, November 4, 2014.
Michael J. Lewandowski,
Associate Secretary of the Board.

[FR Doc. 2014-26485 Filed 11-6-14; 8:45 am]

BILLING CODE 6210-01-P